DEPARTMENT OF COMMERCE

National Oceanic and Atmospheric Administration

[RTID 0648-XC163]

Fisheries of the Exclusive Economic Zone off Alaska; Request for Information on Bristol Bay Red King Crab and Eastern Bering Sea Snow Crab Mortality Mitigation Measures

AGENCY: National Marine Fisheries Service (NMFS), National Oceanic and Atmospheric Administration (NOAA), Commerce.

ACTION: Notification; Request for Information (RFI).

SUMMARY: The North Pacific Fishery Management Council (Council) is requesting information from the public on ways to reduce fishing-related mortality for Eastern Bering Sea (EBS) snow crab, a stock that is overfished. Information from the public is critical to that effort and, therefore, the Council is seeking public input. This notice invites the public to submit written comments on the topic generally and in response to specific questions outlined below.

DATES: Comments must be received via the Council's eAgenda meeting portal by 5 p.m. AKT on September 23, 2022 at https://meetings.npfmc.org/Meeting/Details/2941.

ADDRESSES: Please submit written comments to the Council's' eAgenda meeting portal, at “Request for Information (RFI)—Bristol Bay Red King Crab and Eastern Bering Sea Snow Crab” https://meetings.npfmc.org/Meeting/Details/2941 by the September 23, 2022, deadline.

Council address: North Pacific Fishery Management Council, 1007 W 3rd Ave., Anchorage, AK 99501-2252; telephone: (907) 271-2809.

FOR FURTHER INFORMATION CONTACT: Sarah Rheinsmith Council staff; email: sarah.rheinsmith@noaa.gov or Jon McCracken at jon.mccracken@noaa.gov or by telephone (907) 271-2809.

SUPPLEMENTARY INFORMATION:

Background

On October 19, 2021, NMFS notified the Council that EBS snow crab status has been changed to overfished. The EBS snow crab assessment shows that mature male biomass (MMB) is 50,600 metric tons (mt), which is less than the minimum stock size threshold (MSST) of 76,700 mt, therefore the stock is overfished.

Total snow crab mature male biomass (MMB) has varied considerably since 1990 from a high of 626.7 kilotons (kt) to a low of 50.6 kt in 2021. Observed MMB in the survey increased to historical highs in the 1990s but then declined significantly later that decade. The stock was declared overfished in 1999 in response to the total mature biomass dropping below the 1999 MSST. Observed MMB slowly increased after 1999, and the stock was declared rebuilt in 2011 when estimated MMB at mating was above B35 percent. However, after 2011, the stock declined and the observed MMB at the time of the survey dropped to an all-time low in 2021. In recent years, MMB was increasing as a large recruitment moved through the size classes, but that recruitment event has since disappeared and the observed mature male biomass at the of the 2021 survey was 50.6 kt, a new all-time low. This is the first time a mass mortality event appears to have occurred for snow crab since the survey began and the biomass of important size categories of crab is at historic lows. Because EBS snow crab is overfished, the Council is working to develop a recommended rebuilding plan, consistent with section 304(e) of the Magnuson-Stevens Fishery Conservation and Management Act.

In June 2022, the Council adopted draft alternatives for analysis to establish a rebuilding plan for EBS snow crab, which will be presented to the Council likely in December 2022, and available for public comment. As a separate but related component in response to the change in snow crab status, the Council also initiated a request for information on ways to reduce fishing-related mortality of EBS snow crab. This RFI is therefore seeking public comment on ways to reduce fishing-related mortality of EBS snow crab, and comment on this RFI is invited through September 23, 2022. Information on the Council's tentative agendas for the next three meetings can be found at https://www.npfmc.org/3meeting/ (the Three Meeting Outlook).

Request for Information

This notice requests public comment on the motion put forward by the Council on June 10, 2022, which can be viewed at https://tinyurl.com/C3EBScouncilmotion6-10-22.

The scope of public comments is not limited, but questions that may be considered include:

1. Voluntary measures for implementation in 2023 and beyond to avoid EBS snow crab and reduce crab mortality in the non-directed fisheries;

2. Measures in the directed crab fishery to reduce discard mortality of EBS snow crab;

3. Description of research that would inform development of more flexible and effective spatial management measures; gear modifications to reduce impacts on the EBS snow crab stock, or to evaluate unobserved mortality in the trawl sector.

The Council will review comments submitted in response to this request for information during the October and December 2022 Council meetings. The October Council meeting is scheduled to begin on October 3, 2022. The schedule and agenda for both meetings will be available a month prior to the meeting. All responses to this request for information will be posted and publicly available on the Council agenda for the October and December 2022 meetings.

Public Comment

Responses to this request are voluntary. Respondents need not reply to all questions. All responses are a part of the public record and will be posted on a public website. Therefore, confidential business information, copyrighted information, or personally identifiable information (e.g., name, address, etc.) should not be submitted in response to this request. NOAA and the Council will not pay for any information or administrative costs that you may incur in responding to this RFI, or for the use of any information contained in the response. The documents and information submitted in response to this RFI become the property of the U.S. Government and will not be returned.

Authority: 16 U.S.C. 1801 et seq.

Dated: July 8, 2022.
Jennifer M. Wallace,
Acting Director, Office of Sustainable Fisheries, National Marine Fisheries Service.

[FR Doc. 2022-14989 Filed 7-13-22; 8:45 am]

BILLING CODE 3510-22-P